DEPARTMENT OF THE INTERIOR

Bureau of Ocean Energy Management

[Docket No. BOEM-2012-0097]

Commercial Wind Lease Issuance on the Atlantic Outer Continental Shelf Offshore Delaware

AGENCY: Bureau of Ocean Energy Management (BOEM), Interior.

ACTION: Notice of Availability of a Commercial Lease of Submerged Lands for Renewable Energy on the Outer Continental Shelf Offshore Delaware.

SUMMARY: BOEM has issued a commercial wind energy lease to Bluewater Wind Delaware LLC (Bluewater) for an area of the Outer Continental Shelf (OCS) offshore Delaware. The purpose of this notice is to inform the public of the availability of the executed lease.

The total acreage of the lease area is approximately 96,430 acres. The lease area comprises 11 full OCS blocks and 95 sub-blocks and lies within Official Protraction Diagram Salisbury NJ18-05.

The lease and supporting documentation, including notices that solicited competitive interest and environmental compliance documentation, can be found online at: http://www.boem.gov/Renewable-Energy-Program/State-Activities/Delaware.aspx.

To obtain a single printed copy of the lease, you may contact BOEM, Office of Renewable Energy Programs, 381 Elden Street HM-1328, Herndon, Virginia 20170-4817, or at (703) 787-1320.

Authority: This Notice of the Availability (NOA) of a commercial wind lease is published pursuant to 30 CFR 585.231(h), which implements subsection 8(p) of the OCS Lands Act (43 U.S.C. 1337(p)(3)).

FOR FURTHER INFORMATION CONTACT: Ms. Erin Trager, BOEM Office of Renewable Energy Programs, 381 Elden Street, HM 1328, Herndon, Virginia 20170-4817, (703) 787-1320 or erin.trager@boem.gov.

Dated: January 8, 2013.
Tommy P. Beaudreau,
Director, Bureau of Ocean Energy Management.

[FR Doc. 2013-01005 Filed 1-17-13; 8:45 am]

BILLING CODE 4310-MR-P